DEPARTMENT OF ENERGY

Federal Energy Regulatory Commission

Combined Notice of Filings

Take notice that the Commission has received the following Natural Gas Pipeline Rate and Refund Report filings:

Filings Instituting Proceedings

Docket Numbers: RP17-1103-001.

Applicants: Transcontinental Gas Pipe Line Company, LLC.

Description: Tariff Amendment: Virginia Southside Expansion Project II Initial Rates Amended to be effective 12/1/2017.

Filed Date: 10/17/17.

Accession Number: 20171017-5178.

Comments Due: 5 p.m. ET 10/30/17.

Docket Numbers: RP18-37-000.

Applicants: Equitrans, L.P.

Description: Compliance filing Notice Regarding Non-Jurisdictional Gathering Facilities (F-1006 F-1008 F-1009).

Filed Date: 10/17/17.

Accession Number: 20171017-5127.

Comments Due: 5 p.m. ET 10/30/17.

Docket Numbers: RP18-38-000.

Applicants: Great Lakes Gas Transmission Limited Partnership.

Description: § 4(d) Rate Filing: Language Revision and Updates to be effective 11/18/2017.

Filed Date: 10/17/17.

Accession Number: 20171017-5139.

Comments Due: 5 p.m. ET 10/30/17.

Docket Numbers: RP18-39-000.

Applicants: Natural Gas Pipeline Company of America LLC.

Description: § 4(d) Rate Filing: Shell Energy North America-NRA Filing to be effective 10/18/2017.

Filed Date: 10/17/17.

Accession Number: 20171017-5163.

Comments Due: 5 p.m. ET 10/30/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2017.
Nathaniel J. Davis, Sr.,
Deputy Secretary.

[FR Doc. 2017-23283 Filed 10-25-17; 8:45 am]

BILLING CODE 6717-01-P